COMMISSION ON CIVIL RIGHTS

Notice of Public Meeting of the Idaho Advisory Committee

AGENCY: U.S. Commission on Civil Rights.

ACTION: Announcement of meeting.

SUMMARY: Notice is hereby given, pursuant to the provisions of the rules and regulations of the U.S. Commission on Civil Rights (Commission) and the Federal Advisory Committee Act (FACA) that a meeting of the Idaho Advisory Committee (Committee) to the Commission will be held at 12:00 p.m. (Mountain Time) on Friday, May 10, 2019. The purpose of the meeting is to receive briefing testimony on Native American voting rights issues and to discuss the Committee's ongoing project on Native American voting rights in Idaho.

DATES: The meeting will be held on Friday, May 10, 2019, at 12:00 p.m. Mountain Time.

Public Call Information:

Public Call Information (audio): 877-260-1479; Conference ID: 4734544.

Web Access Information (visual): The online portion of the meeting may be accessed through the following link: https://cc.readytalk.com/r/2eg5pdvoyx9t&eom.

To participate, please access the webinar and call into the conference line.

FOR FURTHER INFORMATION CONTACT: Alejandro Ventura at aventura@usccr.gov or (213) 894-3437.

SUPPLEMENTARY INFORMATION: This meeting is available to the public through the number listed above (audio) and web access link (visual). Please use both the call-in number and the web access link in order to follow the meeting. Callers can expect to incur charges for calls they initiate over wireless lines, and the Commission will not refund any incurred charges. Callers will incur no charge for calls they initiate over land-line connections to the toll-free telephone number. Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed Alejandro Ventura at aventura@usccr.gov. Persons who desire additional information may contact the Regional Programs Unit at (213) 894-3437.

Records and documents discussed during the meeting will be available for public viewing prior to and after the meeting at https://www.facadatabase.gov/FACA/FACAPublicViewCommitteeDetails?id=a10t0000001gzkZAAQ.

Please click on the “Committee Details” tab. Records generated from this meeting may also be inspected and reproduced at the Regional Programs Unit, as they become available, both before and after the meeting. Persons interested in the work of this Committee are directed to the Commission's website, http://www.usccr.gov, or may contact the Regional Programs Unit at the above email or street address.

Agenda

I. Call to Order and Roll Call

II. Introductory Remarks

III. Briefing on Native American Voting Rights Issues

a. O.J. Semans, Four Directions

b. Jacqueline De León, Native American Rights Fund

IV. Q & A with Committee Members

V. Updates on Implementation Plan of Native American Voting Rights Project

VI. Next Steps

VII. Public Comments

VIII. Adjournment

Exceptional Circumstance: Pursuant to 41 CFR 102-3.150, the notice for this meeting is given less than 15 calendar days prior to the meeting because of the exceptional circumstances of the federal government shutdown.

Dated: April 24, 2019.
David Mussatt,
Supervisory Chief, Regional Programs Unit.

[FR Doc. 2019-08580 Filed 4-26-19; 8:45 am]

BILLING CODE P